NUCLEAR REGULATORY COMMISSION

[Docket No. 72-11]

Sacramento Municipal Utility District; Rancho Seco Independent Spent Fuel Storage Installation; Issuance of an Exemption and Conforming Amendment

AGENCY: U.S. Nuclear Regulatory Commission.

ACTION: Issuance of an exemption and conforming amendment.

FOR FURTHER INFORMATION CONTACT: Amy M. Snyder, Project Manager, Spent Fuel Project Office, Office of Nuclear Material Safety and Safeguards, U.S. Nuclear Regulatory Commission, Washington, DC 20555. Telephone: (301) 415-8580; fax number: (301) 415-8555; e-mail: ams3@nrc.gov.

SUPPLEMENTARY INFORMATION: The U.S. Nuclear Regulatory Commission (NRC) has issued an exemption, pursuant to 10 CFR 72.7, from the provisions of 10 CFR 72.44(d)(3), to the Sacramento Municipal Utility District (SMUD or the licensee). The requested exemption (in conjunction with a conforming license amendment) relieves SMUD from the requirement to submit an annual radioactive effluent report for the Rancho Seco Independent Spent Fuel Storage Installation (ISFSI). SMUD submitted the exemption request by letter dated July 19, 2004, in which it also requested an amendment to the Rancho Seco ISFSI license; specifically, the deletion of Technical Specification 5.5.2., Radiological Environmental Monitoring Program, item (d). The licensee is currently storing spent nuclear fuel at the Rancho Seco ISFSI on the site of the decommissioned Rancho Seco Nuclear Generating Station in Sacramento County, California.

These actions comply with the standards and requirements of the Atomic Energy Act of 1954, as amended (the Act), and the Commission's rules and regulations. The Commission has made appropriate findings as required by the Act and the Commission's rules and regulations in 10 CFR chapter I, which are set forth in the license amendment.

In accordance with 10 CFR 72.46(b)(2), a determination has been made that this exemption and conforming amendment does not present a genuine issue as to whether public health and safety will be significantly affected. Therefore, the publication of a notice of proposed action and an opportunity for hearing or a notice of hearing is not warranted. Notice is hereby given of the right of interested persons to request a hearing on whether the action should be rescinded or modified.

Also in connection with these actions, the Commission prepared an Environmental Assessment (EA) and Finding of No Significant Impact (FONSI). The EA and FONSI were published in the Federal Register on January 11, 2005 (70 FR 1911).

The NRC maintains an Agencywide Documents Access Management System (ADAMS), which provides text and image files of NRC's public documents. Supporting documentation may be accessed through the NRC's Public Electronic Reading Room on the Internet at: http://www.nrc.gov/reading-rm/adams.html. A copy of the EA and FONSI can be found at this site using the ADAMS accession number ML050040272. Copies of the referenced documents are also available for review at the NRC Public Document Room (PDR), located at 11555 Rockville Pike, Rockville, MD 20852. PDR reference staff can be contacted at 1-800-397-4209, 301-415-4737 or by e-mail to pdr@nrc.gov. The PDR reproduction contractor will copy documents for a fee.

Dated in Rockville, Maryland, this 21st day of March, 2005.
For the Nuclear Regulatory Commission.
Amy M. Snyder,
Project Manager, Spent Fuel Project Office, Office of Nuclear Material Safety and Safeguards.

[FR Doc. E5-1378 Filed 3-28-05; 8:45 am]

BILLING CODE 7590-01-P